DEPARTMENT OF HEALTH AND HUMAN SERVICES

Health Care Financing Administration

[Document Identifier: HCFA-R-199 and HCFA-255]

Agency Information Collection Activities: Submission for OMB Review; Comment Request

In compliance with the requirement of section 3506(c)(2)(A) of the Paperwork Reduction Act of 1995, the Health Care Financing Administration (HCFA), Department of Health and Human Services, has submitted to the Office of Management and Budget (OMB) the following proposal for the collection of information. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: Revision of a currently approved collection.

Title of Information Collection: Medicaid Report on Payables and Receivables.

Form No.: HCFA-R-199 (OMB #0938-0697).

Use: The Chief Financial Officers Act of 1990 requires government agencies to produce auditable financial statements. This form will collect accounting data from the States on Payables and Receivables.

Frequency: Annually.

Affected Public: State, Local or Tribal Government.

Number of Respondents: 57.

Total Annual Responses: 57.

Total Annual Hours: 342.

(2) Type of Information Collection Request: Extension of a currently approved collection.

Title of Information Collection: Municipal Health Services Cost Report Form and Supporting Regulations in 42 CFR 405.2470.

Form No.: HCFA-255 (OMB#0938-0155).

Use: The Municipal Health Services Program Cost Report (HCFA-255) is used by the participating clinics to report costs for health care services rendered to Medicare beneficiaries. It is also used to gather data to properly evaluate the demonstration. It has been in use since 1979.

Frequency: Annually.

Affected Public: State, Local or Tribal Government, and Not-for-profit institutions.

Number of Respondents: 14.

Total Annual Responses: 14.

Total Annual Hours: 476.

To obtain copies of the supporting statement for the proposed paperwork collections referenced above, access HCFA's Web Site Address at http://www.hcfa.gov/regs/prdact95.htm, or E-mail your request, including your address and phone number, to Paperwork@hcfa.gov, or call the Reports Clearance Office on (410) 786-1326. Written comments and recommendations for the proposed information collections must be mailed within 30 days of this notice directly to the OMB Desk Officer designated at the following address: OMB Human Resources and Housing Branch, Attention: Allison Eydt, New Executive Office Building, Room 10235, Washington, DC 20503.

Dated: October 11, 2000.
John P. Burke III,
HCFA Reports Clearance Officer, HCFA, Office of Information Services, Security and Standards Group, Division of HCFA Enterprise Standards.

[FR Doc. 00-27025 Filed 10-19-00; 8:45 am]

BILLING CODE 4120-03-P